DEPARTMENT OF TRANSPORTATION

Federal Motor Carrier Safety Administration

[Docket No. FMCSA-2008-0289]

Filing Requirements of 49 U.S.C. 14123—the Motor Carrier Financial and Operating Statistics Program (the Annual Form M Filing); Application for Exemption From Swift Transportation, Corporation

AGENCY: Federal Motor Carrier Safety Administration (FMCSA), DOT.

ACTION: Notice of application for exemption; request for comments.

SUMMARY: The Federal Motor Carrier Safety Administration (FMCSA) requests public comment on an application by Swift Transportation Corporation (Swift Transportation) regarding an exemption to the annual reporting requirements of 49 CFR 369.1. Swift Transportation is requesting the exemption on the basis that disclosing this information to the public would be likely to cause it substantial competitive harm.

DATES: Comments received on or before November 17, 2008.

ADDRESSES: You may submit comments identified by Federal Docket Management System Number FMCSA-2008—by any of the following methods:

• Web Site: http://www.regulations.gov. Follow the instructions for submitting comments on the Federal electronic docket site.

• Federal Rulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: All submissions must include the Agency name and the docket ID for this notice. For detailed instructions on submitting comments and additional information on the exemption process, see the “Public Participation” heading below. Note that DOT posts all comments received without change to http://www.regulations.gov, including any personal information included in a comment. Please see the Privacy Act heading below.

Docket: For access to the docket to read background documents or comments, go to http://www.regulations.gov at any time or Room W12-140, DOT Building on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476; Apr. 11, 2000). This information is also available at http://docketsinfo.dot.gov.

Public participation: The http://www.regulations.gov Web site is generally available 24 hours each day, 365 days each year. You can get electronic submission and retrieval help and guidelines under the “help” section of the http://www.regulations.gov Web site and also at the DOT's http://docketsinfo.dot.gov Web site. If you want confirmation of receipt of your comments, please include a self-addressed, stamped envelope or postcard or print the acknowledgement page that appears after submitting comments online.

FOR FURTHER INFORMATION CONTACT: Rhonda Scott, Office of Information Technology, IT Operations Division, (202) 366-4134; Federal Motor Carrier Safety Administration, 1200 New Jersey Avenue, SE., Washington, DC 20590.

SUPPLEMENTARY INFORMATION:

Background

Section 14123 of Title 49 of the United States Code (U.S.C. Section 14123) requires FMCSA to collect from certain for-hire Motor Carriers Annual Financial and Safety reports. The Statute provides FMCSA the authority to exempt upon good cause any party from the reporting requirements. The implementing regulations are found at 49 CFR part 369. In accordance with 49 C.F.R. Section 369.9(e)(1), a request for an exemption must be posted in the Federal Register. The Agency must provide the public with an opportunity to comment on the request.

Any request for an exemption must demonstrate, at a minimum, that an exemption is required to avoid competitive harm and preserve confidential business information that is not otherwise publicly available.

Swift Transportation's Application for Exemption

On December 14, 2007, Swift Transportation applied for an exemption from 49 CFR 369.9 requesting to be exempt from disclosing confidential business information to the public on the basis that Swift Transportation is a privately held corporation and that disclosure of this information would result in competitive harm. A copy of the request is in the public docket identified at the beginning of this notice.

Request for Comments

FMCSA seeks comments on whether Swift Transportation request for an exemption from public disclosure of information otherwise required to be reported to FMCSA pursuant to 49 U.S.C. 14123 and 49 CFR 369.1. Comments should specifically address whether public disclosure of the information sought to be redacted by Swift Transportation would be likely to cause substantial harm to the carrier's competitive position.

Dated: October 27, 2008.
Rose A. McMurray,
Acting Administrator.

[FR Doc. E8-26475 Filed 11-5-08; 8:45 am]

BILLING CODE 4910-EX-P